DEPARTMENT OF DEFENSE

GENERAL SERVICES ADMINISTRATION

NATIONAL AERONAUTICS AND SPACE ADMINISTRATION

48 CFR Parts 1, 4, 5, 8, 16, 19, 28, 31, 39, and 52

[FAC 2024-05; Item II; Docket No. FAR-2024-0052; Sequence No. 1]

Federal Acquisition Regulation; Technical Amendments

AGENCY: Department of Defense (DoD), General Services Administration (GSA), and National Aeronautics and Space Administration (NASA).

ACTION: Final rule.

SUMMARY: This document amends the Federal Acquisition Regulation (FAR) to make needed editorial changes.

DATES: >Effective: May 22, 2024.

FOR FURTHER INFORMATION CONTACT: Ms. Lois Mandell, Regulatory Secretariat Division (MVCB), at 202-501-4755 or GSARegSec@gsa.gov. Please cite FAC 2024-05, Technical Amendments.

SUPPLEMENTARY INFORMATION: This document makes editorial changes to 48 CFR parts 1, 4, 5, 8, 16, 19, 28, 31, 39, and 52.

List of Subjects in 48 CFR Parts 1, 4, 5, 8, 16, 19, 28, 31, 39, and 52

Government procurement.

William F. Clark,
Director, Office of Government-wide Acquisition Policy, Office of Acquisition Policy, Office of Government-wide Policy.

Therefore, DoD, GSA, and NASA amend 48 CFR parts 1, 4, 5, 8, 16, 19, 28, 31, 39, and 52 as set forth below:

1. The authority citation for 48 CFR parts 1, 4, 5, 8, 16, 19, 28, 31, 39, and 52 continues to read as follows:

Authority: 40 U.S.C. 121(c); 10 U.S.C. chapter 4 and 10 U.S.C. chapter 137 legacy provisions (see 10 U.S.C. 3016); and 51 U.S.C. 20113.

PART 1—FEDERAL ACQUISITION REGULATIONS SYSTEM

2. Amend section 1.106 by revising the table to read as follows:

1.106 OMB approval under the Paperwork Reduction Act.

* * * * *

FAR segment | OMB control No.
14.205 | 9000-0037.
15.201(c) | 9000-0037.
15.305(a)(2)(ii) | 9000-0142.
15.407-2(e) | 9000-0048.
19.301 | 9000-0163.
22.8 | 1250-0003.
22.14 | 1250-0005.
22.16 | 1245-0004.
31.205-46 | 9000-0079.
32.408(b) | 9000-0073.
33.2 | 9000-0035.
36.213-2 | 9000-0037.
42.1203(a) | 9000-0076.
42.1204(e) and (f) | 9000-0076.
42.1205(a) | 9000-0076.
42.1503(d) | 9000-0142.
47.303 | 9000-0061.
49.6 | 9000-0012.
50.103-3 | 9000-0029.
50.103-4 | 9000-0029.
50.104-3 | 9000-0029.
51.202 | 9000-0032.
51.203 | 9000-0032.
52.201-1 | 9000-0204.
52.203-2 | 9000-0018.
52.203-7 | 9000-0018.
52.203-13 | 9000-0018.
52.203-16 | 9000-0018.
52.204-3 | 9000-0189.
52.204-6 | 9000-0189.
52.204-7 | 9000-0189.
52.204-10(d)(2) and (3) | 3090-0292.
52.204-12 | 9000-0189.
52.204-13 | 9000-0189.
52.204-14 | 9000-0189.
52.204-15 | 9000-0189.
52.204-20 | 9000-0189.
52.204-23 | 9000-0189.
52.204-24 | 9000-0199.
52.204-25 | 9000-0199.
52.204-26 | 9000-0199.
52.204-29 | 9000-0205.
52.204-30 | 9000-0205.
52.207-3 | 9000-0082.
52.207-4 | 9000-0082.
52.209-1 | 9000-0198.
52.209-2 | 9000-0198.
52.209-5 | 9000-0198.
52.209-6 | 9000-0198.
52.209-7 | 9000-0198.
52.209-9 | 9000-0198.
52.209-10 | 9000-0198.
52.209-11 | 9000-0198.
52.209-12 | 9000-0198.
52.209-13 | 9000-0198.
52.211-7 | 9000-0153.
52.211-8 | 9000-0153.
52.211-9 | 9000-0153.
52.212-1(b)(10) | 9000-0142.
52.212-1(j) | 9000-0189.
52.212-3(b) | 9000-0189.
52.212-3(b)(2) | 9000-0136.
52.212-3(h) | 9000-0198.
52.212-3(l) | 9000-0189.
52.212-3(n) | 9000-0198.
52.212-3(q) | 9000-0198.
52.212-5(d) | 9000-0034.
52.214-14 | 9000-0047.
52.214-26 | 9000-0034.
52.214-28 | 9000-0013.
52.215-1(c)(2)(iv) | 9000-0048.
52.215-2 | 9000-0034.
52.215-6 | 9000-0047.
52.215-9 | 9000-0048.
52.215-12 | 9000-0013.
52.215-13 | 9000-0013.
52.215-14 | 9000-0048.
52.215-19 | 9000-0048.
52.215-20 | 9000-0013.
52.215-21 | 9000-0013.
52.215-22 | 9000-0048.
52.215-23 | 9000-0048.
52.216-2 | 9000-0067.
52.216-3 | 9000-0067.
52.216-4 | 9000-0067.
52.216-5 | 9000-0067.
52.216-6 | 9000-0067.
52.216-7 | 9000-0069.
52.216-15 | 9000-0069.
52.216-16 | 9000-0067.
52.216-17 | 9000-0067.
52.219-9 | 9000-0007.
52.219-28 | 9000-0163.
52.219-29 | 3245-0374.
52.219-30 | 3245-0374.
52.222-2 | 9000-0066.
52.222-4 | 1235-0023.
52.222-6 | 1235-0023 and 9000-0066.
52.222-8 | 1235-0008 and 1235-0018.
52.222-11 | 9000-0066.
52.222-18 | 9000-0066.
52.222-21 | 1250-0003.
52.222-22 | 1250-0003.
52.222-23 | 1250-0003.
52.222-25 | 1250-0003.
52.222-26 | 1250-0001 and 1250-0003.
52.222-27 | 1250-0003.
52.222-32 | 9000-0154.
52.222-33 | 9000-0066.
52.222-34 | 9000-0066.
52.222-35 | 1250-0004.
52.222-36 | 1250-0005.
52.222-37 | 1250-0004.
52.222-38 | 1293-0005.
52.222-40 | 1245-0004.
52.222-41 | 1235-0007 and 1235-0018.
52.222-46 | 9000-0066.
52.222-50 | 9000-0188.
52.222-54 | 1615-0092.
52.222-55 | 1235-0018.
52.222-56 | 9000-0188.
52.222-62 | 1235-0018, 1235-0021 and 1235-0029.
52.223-2 | 9000-0107.
52.223-5 | 9000-0107.
52.223-7 | 9000-0107.
52.223-9 | 9000-0107.
52.223-11 | 9000-0107.
52.223-12 | 9000-0107.
52.223-22 | 9000-0107.
52.224-3 | 9000-0182.
52.225-2 | 9000-0024.
52.225-4 | 9000-0024.
52.225-6 | 9000-0024.
52.225-8 | 9000-0024.
52.225-9 | 9000-0024.
52.225-10 | 9000-0024.
52.225-11 | 9000-0024.
52.225-12 | 9000-0024.
52.225-18 | 9000-0161.
52.225-21 | 9000-0024.
52.225-23 | 9000-0024.
52.225-26 | 9000-0184.
52.226-7 | 9000-0207.
52.227-2 | 9000-0095.
52.227-6 | 9000-0095.
52.227-9 | 9000-0095.
52.227-11 | 9000-0095.
52.227-13 | 9000-0095.
52.227-14 | 9000-0095.
52.227-15 | 9000-0095.
52.227-16 | 9000-0095.
52.227-17 | 9000-0095.
52.227-18 | 9000-0095.
52.227-19 | 9000-0095.
52.227-20 | 9000-0095.
52.227-21 | 9000-0095.
52.227-23 | 9000-0095.
52.228-1 | 9000-0001.
52.228-2 | 9000-0001.
52.228-11 | 9000-0001.
52.228-12 | 9000-0135.
52.228-13 | 9000-0001.
52.228-14 | 9000-0001.
52.228-15 | 9000-0001.
52.228-16 | 9000-0001.
52.228-17 | 9000-0001.
52.229-2 | 9000-0059.
52.229-11 | 1545-2263.
52.229-12 | 1545-2263.
52.230-6 | 9000-0129.
52.232-1 | 9000-0073.
52.232-2 | 9000-0073.
52.232-3 | 9000-0073.
52.232-4 | 9000-0073.
52.232-5 | 9000-0073.
52.232-6 | 9000-0073.
52.232-7 | 9000-0073.
52.232-10 | 9000-0073.
52.232-12 | 9000-0073.
52.232-16 | 9000-0010.
52.232-20 | 9000-0073.
52.232-22 | 9000-0073.
52.232-27 | 9000-0073.
52.232-28 | 9000-0138.
52.232-29 | 9000-0138.
52.232-30 | 9000-0138.
52.232-31 | 9000-0138.
52.232-32 | 9000-0138.
52.232-34 | 9000-0073.
52.233-1 | 9000-0035.
52.236-5 | 9000-0064.
52.236-13 Alt.I | 9000-0064.
52.236-15 | 9000-0064.
52.236-19 | 9000-0064.
52.237-10 | 9000-0152.
52.242-4 | 9000-0069.
52.242-5 | 9000-0069.
52.242-13 | 9000-0069.
52.243-4 | 9000-0026.
52.243-6 | 9000-0026.
52.243-7 | 9000-0026.
52.244-2 | 9000-0149.
52.245-1(f) and (j) | 9000-0075.
52.245-9(d)(1) | 9000-0075.
52.246-2 | 9000-0077.
52.246-3 | 9000-0077.
52.246-4 | 9000-0077.
52.246-5 | 9000-0077.
52.246-6 | 9000-0077.
52.246-7 | 9000-0077.
52.246-8 | 9000-0077.
52.246-12 | 9000-0077.
52.246-15 | 9000-0077.
52.246-26 | 9000-0077.
52.247-1 | 9000-0061.
52.247-2 | 9000-0061.
52.247-6 | 9000-0061.
52.247-29 | 9000-0061.
52.247-30 | 9000-0061.
52.247-31 | 9000-0061.
52.247-32 | 9000-0061.
52.247-33 | 9000-0061.
52.247-34 | 9000-0061.
52.247-35 | 9000-0061.
52.247-36 | 9000-0061.
52.247-37 | 9000-0061.
52.247-38 | 9000-0061.
52.247-41 | 9000-0061.
52.247-42 | 9000-0061.
52.247-43 | 9000-0061.
52.247-44 | 9000-0061.
52.247-48 | 9000-0061.
52.247-51 | 9000-0061.
52.247-52 | 9000-0061.
52.247-53 | 9000-0061.
52.247-57 | 9000-0061.
52.247-60 | 9000-0061.
52.247-63 | 9000-0061.
52.247-64 | 9000-0061.
52.247-65 | 9000-0061.
52.247-67 | 9000-0061.
52.247-68 | 9000-0061.
52.248-1 | 9000-0027.
52.248-2 | 9000-0027.
52.248-3 | 9000-0027.
52.250-1 | 9000-0029.
SF 24 | 9000-0001.
SF 25 | 9000-0001.
SF 25-A | 9000-0001.
SF 25-B | 9000-0001.
SF 28 | 9000-0001.
SF 34 | 9000-0001.
SF 35 | 9000-0001.
SF 273 | 9000-0001.
SF 274 | 9000-0001.
SF 275 | 9000-0001.
SF 294 | 9000-0007.
SF 330 | 9000-0157.
SF 1403 | 9000-0011.
SF 1404 | 9000-0011.
SF 1405 | 9000-0011.
SF 1406 | 9000-0011.
SF 1407 | 9000-0011.
SF 1408 | 9000-0011.
SF 1413 | 9000-0066.
SF 1414 | 9000-0001.
SF 1415 | 9000-0001.
SF 1416 | 9000-0001.
SF 1418 | 9000-0001.
SF 1428 | 9000-0075.
SF 1429 | 9000-0075.
SF 1435 | 9000-0012.
SF 1436 | 9000-0012.
SF 1437 | 9000-0012.
SF 1438 | 9000-0012.
SF 1439 | 9000-0012.
SF 1440 | 9000-0012.
SF 1443 | 9000-0010.
SF 1444 | 9000-0066.
DD Form 254 | 0704-0567.

1.401 [Amended]

3. Amend section 1.401, in paragraph (c), by removing “2.101(a)” and adding “2.101” in its place.

PART 4—ADMINISTRATIVE AND INFORMATION MATTERS

4.1702 [Amended]

4. Amend section 4.1702 in paragraph (b) by removing the web address “https://www.whitehouse.gov/sites/whitehouse.gov/files/omb/procurement/memo/service-contract-inventory-guidance.pdf” and adding the web address “https://www.whitehouse.gov/wp-content/uploads/legacy_drupal_files/omb/memoranda/2017/service_contract_inventories.pdf” in its place.

PART 5—PUBLICIZING CONTRACT ACTIONS

5.704 [Amended]

5. Amend section 5.704 in paragraph (a)(2) by removing the word “e-Buy” and adding the word “eBuy” in its place.

PART 8—REQUIRED SOURCES OF SUPPLIES AND SERVICES

6. Amend section 8.402 by revising paragraphs (d)(1) introductory text and (d)(2) to read as follows:

8.402 General.

* * * * *

(d)(1) eBuy, GSA's electronic request for quotation (RFQ) system, is a part of a suite of online tools which complement GSA Advantage!. GSA's eBuy allows ordering activities to post requirements, obtain quotes, and issue orders electronically. Posting an RFQ on eBuy—

* * * * *

(2) Ordering activities may access eBuy at https://www.ebuy.gsa.gov. For more information or assistance on either GSA Advantage! or eBuy, contact GSA by email at gsa.advantage@gsa.gov.

* * * * *

8.404 [Amended]

7. Amend section 8.404 in paragraph (c)(2) by removing “2.101(b)” and adding “2.101” in its place.

8.405-1 [Amended]

8. Amend section 8.405-1 by removing from paragraphs (d)(3)(i) and (e) the phrase “RFQ on e-Buy” and adding the phrase “RFQ on eBuy” in its place.

8.405-2 [Amended]

9. Amend section 8.405-2 by—

a. Removing from paragraph (c) introductory text the words “Request for Quotation (RFQ)” and “e-Buy” and adding the words “request for quotation (RFQ)” and “eBuy” in their place; and

b. Removing from paragraph (c)(3)(iii)(A) “e-Buy” and adding “eBuy” in its place.

8.405-3 [Amended]

10. Amend section 8.405-3 by—

a. Removing from paragraph (b)(1)(ii)(B)(1) the word “e-Buy” and adding the word “eBuy” in its place;

b. In paragraph (b)(2)(iii): i. Removing from the paragraph heading the word “Quotation” and adding “quotation” in its place; ii. Removing the word “e-Buy” and adding the word “eBuy” in its place; and

c. Removing from paragraph (b)(2)(v)(A) the word “e-Buy” and adding the word “eBuy” in its place.

8.405-6 [Amended]

11. Amend section 8.405-6 in paragraph (b) by—

a. Removing from paragraph (b)(3)(i) introductory text “e-Buy (http://www.ebuy.gsa.gov)” and adding “eBuy (https://www.ebuy.gsa.gov)” in its place; and

b. Removing from paragraphs (b)(3)(ii)(B) and (C) the word “e-Buy” and adding the word “eBuy” in its place.

PART 16—TYPES OF CONTRACTS

16.505 [Amended]

12. Amend section 16.505 in paragraph (a)(8)(iii) by removing “2.101(b)” and adding “2.101” in its place.

PART 19—SMALL BUSINESS PROGRAMS

19.305 [Amended]

13. Amend section 19.305 in paragraph (b) by removing the words “Assistant Administrator for SDBCE” and adding the words “Associate Administrator for Business Development (AA/BD)” in its place.

19.507 [Amended]

14. Amend section 19.507 in paragraph (h)(1) introductory text by removing the phrase “contracts (including multiple-award contracts when” and adding “contracts, including multiple-award contracts, when” in its place.

PART 28—BONDS AND INSURANCE

28.203-1 [Amended]

15. Amend section 28.203-1 in paragraph (a) by removing “https://www.treasurydirect.gov/instit/statreg/collateral/collateral.htm” and adding “https://www.treasurydirect.gov/files/laws-and-regulations/collateral-programs/2018-final-225-list-of-acceptable-collateral.pdf” in its place.

PART 31—CONTRACT COST PRINCIPLES AND PROCEDURES

16. Amend section 31.205-40 by revising paragraph (a) to read as follows:

31.205-40 Special tooling and special test equipment costs.

(a) The terms “special tooling” and “special test equipment” are defined in 2.101.

* * * * *

PART 39—ACQUISITION OF INFORMATION TECHNOLOGY

39.000 [Amended]

17. Amend section 39.000 in paragraph (b) by removing “2.101(b)” and adding “2.101” in its place.

PART 52—SOLICITATION PROVISIONS AND CONTRACT CLAUSES

18. Amend section 52.212-3 by—

a. Revising the date of the provision; and

b. Removing from paragraph (c)(5) the citation “13 CFR 124.1002” and adding the citation “13 CFR 124.1001” in its place.

The revision reads as follows:

52.212-3 Offeror Representations and Certifications—Commercial Products and Commercial Services [Insert Abbreviated Month and Year of Publication in the Federal Register]

* * * * *

Offeror Representations and Certifications—Commercial Products and Commercial Services (MAY 2024)

* * * * *

[FR Doc. 2024-07932 Filed 4-19-24; 8:45 am]

BILLING CODE 6820-EP-P